DEPARTMENT OF AGRICULTURE

Agricultural Marketing Service

7 CFR Part 1221

[AMS-LPS-15-0055]

Sorghum Promotion, Research, and Information Program

AGENCY: Agricultural Marketing Service; USDA.

ACTION: Announcement of the continuation of the sorghum promotion.

SUMMARY: The Agricultural Marketing Service (AMS) is announcing that sorghum producers voting in a national referendum from March 23, 2015, through April 21, 2015, have approved the continuation of the Sorghum Promotion, Research, and Information Order (Order).

DATES: Effective September 25, 2015.

FOR FURTHER INFORMATION CONTACT: Kenneth R. Payne, Director, Research and Promotion Division; Livestock, Poultry, and Seed Program, AMS, USDA, Room 2608-S; 1400 Independence Avenue SW., Washington, DC 20250-0251; Telephone 202/720-5705; Fax 202/720-1125; or email to Kenneth.Payne@ams.usda.gov, or Craig Shackelford, Marketing Specialist; Research and Promotion Division; Livestock, Poultry, and Seed Program, AMS, USDA; 22 Jamesport Lane; White, GA 30184; Telephone: (470) 315-4246; or email to craig.shackelford@ams.usda.gov.

SUPPLEMENTARY INFORMATION: Pursuant to the Commodity Promotion, Research, and Information Act of 1996 (Act)(7 U.S.C. 7411-7425), the Department of Agriculture conducted a referendum from March 23, 2015, through April 21, 2015, among eligible sorghum producers and importers to determine if the Order would continue to be effective. A final rule was published in the November 18, 2010, Federal Register (75 FR 70573) outlining the procedures for conducting the referendum.

Of the 1,202 valid ballots cast, 1,160 or 96.5 percent favored the program and 42 or 3.5 percent opposed continuing the program. For the program to continue, it must have been approved by at least a majority of those eligible persons voting for approval who were engaged in the production or importation of sorghum during the period January 1, 2011, through December 31, 2014.

Therefore, based on the referendum results, the Secretary of Agriculture has determined that the required majority of eligible voters who voted in the nationwide referendum from March 23, 2015, through April 21, 2015, voted to continue the Order. As a result, the Sorghum Checkoff Program will continue to be funded by a mandatory assessment on producers and importers at the rate of 0.6 percent of net market value of grain sorghum and 0.35 percent of net market value for sorghum forage, sorghum hay, sorghum haylage, sorghum billets, and sorghum silage. Imports of such products will also be assessed, although, very limited imports exist at this time.

In accordance with the Paperwork Reduction Act (44 U.S.C. Chapter 35), the information collection requirements have been approved under OMB number 0581-0093.

State Referendum Results
[March 23, 2015, through April 21, 2015]
State | Yes votes | No votes | Total eligible votes
Alabama | 0 | 0 | 0
Alaska | 0 | 0 | 0
Arizona | 0 | 0 | 0
Arkansas | 41 | 0 | 41
California | 0 | 0 | 0
Colorado | 49 | 2 | 51
Connecticut | 0 | 0 | 0
Delaware | 0 | 0 | 0
Florida | 0 | 0 | 0
Georgia | 0 | 0 | 0
Hawaii | 0 | 0 | 0
Idaho | 0 | 0 | 0
Illinois | 11 | 2 | 13
Indiana | 0 | 0 | 0
Iowa | 2 | 0 | 2
Kansas | 281 | 14 | 295
Kentucky | 2 | 0 | 2
Louisiana | 34 | 0 | 34
Maine | 0 | 0 | 0
Maryland | 3 | 0 | 3
Massachusetts | 0 | 0 | 0
Michigan | 0 | 0 | 0
Minnesota | 0 | 0 | 0
Mississippi | 1 | 0 | 1
Missouri | 4 | 0 | 4
Montana | 0 | 0 | 0
Nebraska | 27 | 0 | 27
Nevada | 0 | 0 | 0
New Hampshire | 0 | 0 | 0
New Jersey | 0 | 0 | 0
New Mexico | 27 | 1 | 28
New York | 0 | 0 | 0
North Carolina | 4 | 0 | 4
North Dakota | 0 | 0 | 0
Ohio | 0 | 0 | 0
Oklahoma | 57 | 1 | 58
Oregon | 0 | 0 | 0
Pennsylvania | 0 | 0 | 0
Rhode Island | 0 | 0 | 0
South Carolina | 1 | 0 | 1
South Dakota | 34 | 0 | 34
Tennessee | 0 | 0 | 0
Texas | 580 | 22 | 602
Utah | 0 | 0 | 0
Vermont | 0 | 0 | 0
Virginia | 2 | 0 | 2
Washington | 0 | 0 | 0
West Virginia | 0 | 0 | 0
Wisconsin | 0 | 0 | 0
Wyoming | 0 | 0 | 0
Total | 1,160 | 42 | 1,202

Authority: 7 U.S.C. 7411-7425.

Dated: September 18, 2015.
Rex A. Barnes,
Associated Administrator, Agricultural Marketing Service.

[FR Doc. 2015-24223 Filed 9-24-15; 8:45 am]

BILLING CODE 3410-02-P